DEPARTMENT OF THE INTERIOR

Fish and Wildlife Service

50 CFR Part 17

[Docket No. FWS-R4-ES-2017-0006; FF04E00000 178 FXES11130400000]

RIN 1018-BB98

Endangered and Threatened Wildlife and Plants; Nonessential Experimental Population of Red Wolves (Canis rufus) in North Carolina

AGENCY: Fish and Wildlife Service, Interior.

ACTION: Advance notice of proposed rulemaking; notice of intent to prepare a National Environmental Policy Act document.

SUMMARY: This notice advises the public that we, the U.S. Fish and Wildlife Service (Service), intend to gather information necessary to develop a proposed rule to revise the existing nonessential experimental population designation of red wolves (Canis rufus) in North Carolina under section 10(j) of the Endangered Species Act of 1973, as amended, and prepare a draft environmental review pursuant to the National Environmental Policy Act (NEPA) of 1969, as amended. The Service is furnishing this notice to advise other agencies and the public of our intentions; obtain suggestions and information on the scope of issues to include in the environmental review; and announce public scoping meetings to occur in June 2017.

DATES: Comment submission: Public scoping will begin with the publication of this document in the Federal Register and will continue through July 24, 2017. We will consider all comments on the scope of the draft environmental review that are received or postmarked by that date. Comments received or postmarked after that date will be considered to the extent practicable.

Public meetings: We will conduct two public scoping meetings during the scoping period. The scoping meetings will provide the public with an opportunity to ask questions, discuss issues with Service staff regarding the environmental reviews under NEPA, and provide written comments. The meetings will be held on the following dates:

• June 6, 2017, 6:30-8:30 p.m. in Swan Quarter, NC; and

• June 8, 2017, 6:30-8:30 p.m. in Manteo, NC.

ADDRESSES: Comment submission: You may submit written comments by one of the following methods:

(1) Electronically: Go to the Federal eRulemaking Portal: http://www.regulations.gov. Search for FWS-R4-ES-2017-0006, which is the docket number for this action. You may submit a comment by clicking on “Comment Now!”

(2) By hard copy: Submit by U.S. mail or hand-delivery to: Public Comments Processing, Attn: FWS-R4-ES-2017-0006; Division of Policy, Performance, and Management Programs; U.S. Fish and Wildlife Service Headquarters, MS: BPHC, 5275 Leesburg Pike, Falls Church, VA 22041-3803.

We request that you send comments only by the methods described above. We will post all comments on http://www.regulations.gov. This generally means that we will post any personal information you provide us (see Information Requested below in SUPPLEMENTARY INFORMATION). To increase our efficiency in downloading comments, groups providing mass submissions should submit their comments in an Excel file.

Public meetings: We will hold two public scoping meetings on the dates specified above in DATES at the following locations:

• Mattamuskeet High School; 20392 US-264, Swan Quarter, NC 27885. The meeting will be held in the cafeteria.

• Alligator River National Wildlife Refuge; 100 Conservation Way, Manteo, NC 27954. The meeting will be held in the auditorium.

FOR FURTHER INFORMATION CONTACT: Pete Benjamin, U.S. Fish and Wildlife Service, Raleigh Ecological Services Field Office, 551F Pylon Drive, Raleigh, NC 27606, or by telephone 919-856-4520, extension 11. If you use a telecommunications device for the deaf (TDD), please call the Federal Relay Service at 800-877-8339.

SUPPLEMENTARY INFORMATION:

Background

The red wolf was originally listed as a species threatened with extinction under the Endangered Species Preservation Act of 1966 (32 FR 4001; March 11, 1967). This species is currently listed as an endangered species under the Endangered Species Act of 1973, as amended (Act) (16 U.S.C. 1531 et seq.). The demise of the red wolf was directly related to human activities, such as drainage of vast wetland areas for agricultural purposes; construction of dam projects that inundated prime habitat; and predator control efforts at the private, State, and Federal levels.

Historically, the red wolf range included Texas and Louisiana to the Ohio River Valley and up the Atlantic Coast into northern Pennsylvania or southern New York, and perhaps further north (Wildlife Management Institute 2014; for reference, see docket number FWS-R4-ES-2017-0006 in www.regulations.gov). However, by the mid-1970s, the only remaining population occurred in southeastern Texas and southwestern Louisiana (Wildlife Management Institute 2014).

In 1975, it became apparent that the only way to save the red wolf from extinction was to capture as many wild animals as possible and place them in a secured captive-breeding program. This decision was based on the critically low numbers of animals left in the wild, poor physical condition of those animals due to disease and internal and external parasites, the threat posed by an expanding coyote (Canis latrans) population, and consequent inbreeding problems. The Service removed the remaining red wolves from the wild and used them to establish a breeding program with the objective of restoring the species to a portion of its former range. Forty adult red wolves were captured from the wild and provided to the established Red Wolf Captive Breeding Program with the Point Defiance Zoo and Aquarium in Tacoma, Washington. By 1986, the captive-breeding program held 80 red wolves in 7 facilities and public and private zoos across the United States.

With the red wolf having been extirpated from its entire historic range, the Service took action to reestablish a wild population. In 1986, a final rule to introduce red wolves into Alligator River National Wildlife Refuge (Alligator River), Dare County, North Carolina, was published in the Federal Register (51 FR 41790, November 19, 1986). Alligator River was chosen due to the absence of coyotes, lack of livestock operations, and availability of prey species. The red wolf population in Dare County (Alligator River) and adjacent Tyrrell, Hyde, and Washington Counties were determined to be a nonessential experimental population (NEP) under section 10(j) of the Act (a “10(j) rule”). In 1991, a revision to the rule added Beaufort County to the counties where the experimental population designation would apply (56 FR 56325, November 4, 1991). From 1987 through 1992, recovery officials released 42 red wolves to establish this NEP. In 1993, the experimental population was expanded with reintroductions at Pocosin Lakes National Wildlife Refuge in North Carolina. The 10(j) rule was modified again in 1995 (60 FR 18940, April 13, 1995). Today, the only population of red wolves in the wild is the NEP established around Alligator River in North Carolina. All other individuals of this species are found in captive facilities around the country.

The NEP has been closely monitored and managed since the first introductions in 1986. Management of this population includes fitting animals with radio collars and vaccinating prior to release against diseases prevalent in canids. Some management actions involve take, as defined under section 3 of the Act, of red wolves including recapture of wolves to: Replace transmitter or capture collars; provide routine veterinary care; return to the refuge animals that move off Federal lands; or return to captivity animals that are a threat to human safety or property or severely injured or diseased. In the early 1990s, expansion of coyotes into the area of the NEP resulted in interbreeding and coyote gene introgression into the wolf population. To reduce hybridization, an adaptive management plan was developed that used sterilized coyotes as territorial “placeholders.” Placeholders do not interbreed with red wolves and exclude other coyotes from their territories. The placeholder coyotes were eventually replaced by red wolves via natural displacement or management actions (i.e., removal).

Proposed Action and Possible Alternatives

In 2013, acknowledging growing concerns from private landowners regarding management of the NEP, the Service and North Carolina Resources Commission entered into a broad canid management agreement, recognizing steps were needed to improve management of the population. Subsequently, the Service contracted an independent evaluation of the NEP project in 2014 and of the entire red wolf recovery program in 2015. From these evaluations, it became clear that the current direction and management of the NEP project is unacceptable to the Service and all stakeholders.

As a result of the findings from the evaluations, the Service is considering a potential revision of the 1995 NEP final rule. Risks of continued hybridization, human-related mortality, continued loss of habitat due to sea level rise, and continued population decline are high and have led to poor prospects for the NEP. Further, the most recent PVA indicates that the viability of the captive population is below and declining from the original recovery plan diversity threshold of 90 percent and could be enhanced by breeding captive wolves with wolves from the NEP project area. Therefore, the Service is considering whether the NEP should be managed with the captive population as one meta-population, whereby individuals could be moved not only from captivity into the wild but also from the wild into captivity. Incorporating the NEP into a meta-population with the captive population will increase the size of the population and introduce the natural selection occurring in the NEP back into the captive population. Therefore, the Service is proposing to change the goal of the current NEP project from solely that of establishing a self-sustaining wild population to a goal of also supporting viability of the captive wolves of the red wolf breeding program (proposed action). Maintaining a wild population fully integrated with the captive wolves also will: (1) Allow for animals removed from the wild to support the necessary expansion of current and future wild reintroduced populations and to improve the genetic health of the captive-breeding program; (2) preserve red wolf natural instincts and behavior in the captive population gene pool; and (3) provide a population for continued research on wild behavior and management.

The proposed revision would recognize that the size, scope, and management of the NEP will be focused on maintaining a wild population on Federal lands within Dare County, North Carolina and on protecting the species by increasing the number and genetic diversity of wolves in captivity. These revisions will allow removal of isolated packs of animals from non-Federal lands at the landowners' request, incorporation of these animals into the wild/captive metapopulation, and better management of the remaining wild animals in accessible areas to minimize risks of hybridization. Management of wolves occupying Federal lands in Dare County will include population monitoring, animal husbandry, and control of coyotes and hybrids.

The proposed revision would authorize the movement of animals between the captive and wild populations in order to increase the number of wolves in the captive-breeding program and maintain genetic diversity for both captive and wild wolves. This means the captive wolves and the NEP will be managed as one single meta-population.

The draft environmental review under NEPA will consider consequences of a range of reasonable alternatives to the proposed action. We have identified several management alternatives for the NEP:

(1) Maintain the NEP project in its current state. In other words, we would make no revisions to the current 10(j) rule.

(2) Publish a rule eliminating the NEP project. Under this alternative, the red wolves found in the wild would retain their status as a federally listed “endangered” species under the Act.

(3) Revise the existing NEP. We may consider revisions to the current 10(j) rule that vary from the proposed action.

Information Requested

Issues Related to the Scope of the NEP

We seek comments or suggestions from the public, governmental agencies, Tribes, the scientific community, industry, or any other interested parties. To promulgate a proposed rule and prepare a draft environmental review pursuant to NEPA, we will take into consideration all comments and any additional information received. To ensure that any proposed rulemaking to revise the existing NEP effectively evaluates all potential issues and impacts, we are seeking comments and suggestions on the following for consideration in preparation of a proposed revision to the NEP final rule for the red wolf:

(a) Contribution of the NEP to recovery goals for the red wolf;

(b) Tools for population management;

(c) Management strategies to address hybridization with coyotes;

(d) Appropriate provisions for “take” of red wolves; and

(e) Protocols for red wolves that leave the NEP area, including, but not limited to, requests for removal of animals from private lands.

The Service will act as the lead Federal agency responsible for completion of the environmental review. Therefore, we are seeking comments on the identification of direct, indirect, beneficial, and adverse effects that might be caused by revising the 10(j) rule for red wolves. You may wish to consider the following issues when providing comments:

(a) Impacts on floodplains, wetlands, wild and scenic rivers, or ecologically sensitive areas;

(b) Impacts on park lands and cultural or historic resources;

(c) Impacts on human health and safety;

(d) Impacts on air, soil, and water;

(e) Impacts on prime agricultural lands;

(f) Impacts to other species of wildlife, including other endangered or threatened species;

(g) Disproportionately high and adverse impacts on minority and low-income populations;

(h) Any other potential or socioeconomic effects; and

(i) Any potential conflicts with other Federal, State, local, or Tribal environmental laws or requirements.

To promulgate a proposed rule and prepare a draft environmental review pursuant to NEPA, we will take into consideration all comments and any additional information received. Please note that submissions merely stating support for or opposition to the proposed action and alternatives under consideration, without providing supporting information, will be noted but not considered by the Service in making a determination. Please consider the following when preparing your comments:

• Be as succinct as possible.

• Be specific. Comments supported by logic, rationale, and citations are more useful than opinions.

• State suggestions and recommendations clearly with an expectation of what you would like the Service to do.

• If you propose an additional alternative for consideration, please provide supporting rationale and why you believe it to be a reasonable alternative that would meet the purpose and need for our proposed action.

• If you provide alternate interpretations of science, please support your analysis with appropriate citations.

The alternatives we develop will be analyzed in our draft a draft environmental review pursuant to NEPA. We will give separate notice of the availability of the draft environmental review for public comment when it is completed. We may hold public hearings and informational sessions so that interested and affected people may comment and provide input into the final decision.

You may submit your comments and materials by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we use in preparing the proposed rule and draft environmental review, will be available for public inspection on http://www.regulations.gov, at Docket No. FWS-R4-ES-2017-0006, or by appointment, during normal business hours, at the U.S. Fish and Wildlife Service, Raleigh Ecological Services Field Office (see FOR FURTHER INFORMATION CONTACT).

Authors

The primary authors of this document are the staff members of the Red Wolf Recovery Program, U.S. Fish and Wildlife Service, Southeast Region (see FOR FURTHER INFORMATION CONTACT).

Authority

The authority for this action is the Endangered Species Act of 1973 (16 U.S.C. 1531 et seq.) and the National Environmental Policy Act of 1969 (42 U.S.C. 4321 et seq.).

Dated: February 2, 2017.
James W. Kurth,
Acting Director, U.S. Fish and Wildlife Service.

[FR Doc. 2017-10551 Filed 5-22-17; 8:45 am]

BILLING CODE 4333-15-P